DEPARTMENT OF TRANSPORTATION

Federal Aviation Administration

14 CFR Part 39

[Docket No. FAA-2014-0062; Directorate Identifier 2012-NM-031-AD; Amendment 39-18025; AD 2014-23-09]

RIN 2120-AA64

Airworthiness Directives; Fokker Services B.V. Airplanes

AGENCY: Federal Aviation Administration (FAA), Department of Transportation (DOT).

ACTION: Final rule.

SUMMARY: We are superseding Airworthiness Directive (AD) 2000-17-03 for all Fokker Services B.V. Model F.28 Mark 0100 airplanes. AD 2000-17-03 required inspections of the nose landing gear (NLG) main fitting to detect cracking of the NLG main fitting subassembly, and corrective actions if necessary. This new AD retains the requirements of AD 2000-17-03, requires installing a new part number NLG unit that terminates the repetitive inspections, and adds airplanes to the applicability. This AD was prompted by a report of an NLG main fitting failure. We are issuing this AD to prevent cracking of the NLG main fitting, which could lead to collapse of the NLG during takeoff and landing, and possible injury to the flight crew and passengers.

DATES: This AD becomes effective December 31, 2014.

The Director of the Federal Register approved the incorporation by reference of certain publications listed in this AD as of December 31, 2014.

The Director of the Federal Register approved the incorporation by reference of a certain other publication listed in this AD as of October 3, 2000 (65 FR 52298, August 29, 2000).

ADDRESSES: You may examine the AD docket on the Internet at http://www.regulations.gov/#!docketDetail;D=FAA-2014-0062; or in person at the Docket Management Facility, U.S. Department of Transportation, Docket Operations, M-30, West Building Ground Floor, Room W12-140, 1200 New Jersey Avenue SE., Washington, DC.

For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 to supersede AD 2000-17-03, Amendment 39-11876 (65 FR 52298, August 29, 2000). AD 2000-17-03 applied to all Fokker Services B.V. Model F.28 Mark 0100 airplanes. The NPRM published in the Federal Register on February 28, 2014 (79 FR 11351). The NPRM proposed to continue to require a one-time visual inspection, and repetitive eddy current and dye penetrant inspections of the NLG main fitting to detect cracking of the NLG main fitting subassembly, and corrective actions if necessary. The NPRM also proposed to require installing a new part number NLG unit that would terminate the repetitive inspections, and adding airplanes to the applicability.

The European Aviation Safety Agency (EASA), which is the Technical Agent for the Member States of the European Community, has issued EASA Airworthiness Directive 2012-0002R1, dated March 30, 2012 (referred to after this as the Mandatory Continuing Airworthiness Information, or “the MCAI”), to correct an unsafe condition on all Fokker Services B.V. Model F.28 Mark 0100 airplanes. The MCAI states:

In 1997, a report was received concerning a Fokker 100 (F28 Mark 0100) aeroplane, where during landing following nose wheel touch-down, the nose landing gear (NLG) broke off just below the pintle pins. Subsequent inspection by the affected operator of other aeroplanes in the fleet identified three more suspect NLG main fittings. Eddy current (EC) and/or dye penetrant inspections of these units later confirmed that cracks were present on the inner side of the downlock plunger support web. The total number of flight cycles (FC) accumulated by the cracked NLG main fittings at the time of detection were between 9,300 FC and 17,600 FC.

This condition, if not detected and corrected, could result in further incidents of NLG collapse, possibly resulting in damage to the aeroplane and/or injury to the occupants. To address this potential unsafe condition [Civil Aviation Authority —Netherlands] CAA-NL issued [an] AD * * * to require repetitive inspections of the NLG main fitting and, depending on findings, rework or replacement of the NLG main fitting.

Since [that Netherlands] AD * * * was issued, it was determined that replacement of a Messier-Dowty (M-D, formerly Dowty Rotol) Part Number (P/N) 201071001 or P/N 201071002 NLG with, respectively, a P/N 201071003 or P/N 201071004 (which have a so-called `heavy weight' main fitting installed) or, respectively, with a P/N 201456001 or P/N 201461001 (which are so-called `heavy weight' NLG units) cancels the need for repetitive inspection and/or rework. The `heavy weight' main fitting was originally developed for an increased weight version (101,000 lbs. maximum take-off weight) of the Fokker 100, as well as for the Fokker 70 (F28 Mark 0070), and introduced on the production line.

M-D issued Service Bulletin (SB) F100-32-94 and Fokker Services issued SBF100-32-119, which provide instructions to install the P/N 201071003 or P/N 201071004 NLG on aeroplanes in service. In addition, Fokker Services issued optional SBF100-32-149 to introduce the P/N 201456001 or P/N 201461001 NLG units on aeroplanes in service.

In January 2010, a second NLG main fitting failure occurred. The results of the investigation showed that the fracture started from small fatigue cracks in the affected area. Prompted by this new occurrence, combined with the NLG certification methodology (safe life principle), EASA has decided that the existing terminating action, installation of a P/N 201071003 or P/N 201071004 NLG should be made mandatory. Alternatively, a P/N 201456001 or P/N 201461001 NLG can be installed, which meets the same requirement.

For the reasons described above, EASA issued AD 2012-0002, retaining the requirements of [the Netherlands] AD * * *, which was superseded, and to require the replacement of all P/N 201071001 and P/N 201071002 NLG units with, respectively, P/N 201071003 and P/N 201071004 NLG units, or alternatively with, respectively, P/N 201456001 or P/N 201461001 NLG units.

Replacement of a NLG main fitting or of a NLG unit on an aeroplane constitutes terminating action for the repetitive inspections for that aeroplane.

EASA AD 2012-0002 also prohibits, after modification of an aeroplane, installation of a P/N 201071001 or P/N 201071002 NLG unit on that aeroplane.

* * * * *

You may examine the MCAI in the AD docket on the Internet at http://www.regulations.gov/#!documentDetail;D=FAA-2014-0062-0002.

Comments

We gave the public the opportunity to participate in developing this AD. We received no comments on the NPRM (79 FR 11351, February 28, 2014) or on the determination of the cost to the public.

“Contacting the Manufacturer” Paragraph in This AD

Since late 2006, we have included a standard paragraph titled “Airworthy Product” in all MCAI ADs in which the FAA develops an AD based on a foreign authority's AD.

The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (79 FR 11351, February 28, 2014), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

No comments were provided to the NPRM (79 FR 11351, February 28, 2014) about these proposed changes. However, a comment was provided for an NPRM having Directorate Identifier 2012-NM-101-AD (78 FR 78285, December 26, 2013). The commenter stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, the European Aviation Safety Agency (EASA), or Fokker Services B.V.'s EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Other commenters to the NPRM having Directorate Identifier 2012-NM-101-AD (78 FR 78285, December 26, 2013) pointed out that in many cases the foreign manufacturer's service bulletin and the foreign authority's MCAI might have been issued some time before the FAA AD. Therefore, the DOA might have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement that the DAH-provided repair specifically refer to this AD. Before adopting such a requirement, the FAA will coordinate with affected DAHs and verify they are prepared to implement means to ensure that their repair approvals consider the unsafe condition addressed in this AD. Any such requirements will be adopted through the normal AD rulemaking process, including notice-and-comment procedures, when appropriate.

We also have decided not to include a generic reference to either the “delegated agent” or “DAH with State of Design Authority design organization approval,” but instead we have provided the specific delegation approval granted by the State of Design Authority for the DAH.

Clarification of Language in Paragraph (m)(2) of This AD

In paragraph (m)(2) of the NPRM (79 FR 11351, February 28, 2014), we specified to contact certain aviation authorities “for instructions and follow those instructions.” As part of the change described previously regarding “Contacting the Manufacturer” language, this text has been revised in paragraph (m)(2) of this AD to specify doing a repair using a method approved by the FAA, EASA, or Fokker Services B.V.'s EASA DOA.

Conclusion

We reviewed the available data and determined that air safety and the public interest require adopting this AD as proposed except for minor editorial changes. We have determined that these minor changes:

• Are consistent with the intent that was proposed in the NPRM (79 FR 11351, February 28, 2014) for correcting the unsafe condition; and

• Do not add any additional burden upon the public than was already proposed in the NPRM (79 FR 11351, February 28, 2014).

We also determined that these changes will not increase the economic burden on any operator or increase the scope of this AD.

Costs of Compliance

We estimate that this AD affects 4 airplanes of U.S. registry.

The actions required by AD 2000-17-03, Amendment 39-11876 (65 FR 52298, August 29, 2000), and retained in this AD take about 2 work-hours per product, at an average labor rate of $85 per work-hour. Required parts cost $0 per product. Based on these figures, the estimated cost of the actions that were required by AD 2000-17-03 is $170 per product.

We also estimate that it will take about 8 work-hours per product to comply with the new basic requirements of this AD. The average labor rate is $85 per work-hour. Required parts will cost about $525,000 per product. Based on these figures, we estimate the cost of this AD on U.S. operators to be $2,102,720, or $526,680 per product.

We have received no definitive data that would enable us to provide a cost estimate for the on-condition actions specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0062; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2000-17-03, Amendment 39-11876 (65 FR 52298, August 29, 2000), and adding the following new AD:

2014-23-09 Fokker Services B.V.: Amendment 39-18025. Docket No. FAA-2014-0062; Directorate Identifier 2012-NM-031-AD.

(a) Effective Date

This AD becomes effective December 31, 2014.

(b) Affected ADs

This AD replaces AD 2000-17-03, Amendment 39-11876 (65 FR 52298, August 29, 2000).

(c) Applicability

This AD applies to Fokker Services B.V. Model F.28 Mark 0100 airplanes; certificated in any category; all serial numbers.

(d) Subject

Air Transport Association (ATA) of America Code 32, Landing Gear.

(e) Reason

This AD was prompted by a report of a nose landing gear (NLG) main fitting failure. We are issuing this AD to prevent cracking of the NLG main fitting, which could lead to collapse of the NLG during takeoff and landing, and possible injury to the flight crew and passengers.

(f) Compliance

Comply with this AD within the compliance times specified, unless already done.

(g) Retained One-Time Detailed Visual Inspection

This paragraph restates the actions required by paragraph (a) of AD 2000-17-03, Amendment 39-11876 (65 FR 52298, August 29, 2000). For airplanes equipped with a Messier-Dowty NLG having part number (P/N) 201071001 or 201071002, on which a main fitting subassembly (MFSA) having P/N 201071200, 201071228, 201071248, or 201071249 is installed: Prior to the accumulation of 7,500 total flight cycles or within 50 flight cycles after October 3, 2000 (the effective date of AD 2000-17-03), whichever occurs later, perform a one-time detailed visual inspection of the NLG main fitting subassembly to detect cracking, in accordance with Part 1 of the Accomplishment Instructions of Fokker Service Bulletin SBF100-32-118, dated October 8, 1999.

(1) If no cracking is detected, no further action is required by this paragraph.

(2) If any cracking is detected, prior to further flight, accomplish the actions required by paragraph (i) of this AD.

(h) Definition of a Detailed Visual Inspection

For the purposes of this AD, a detailed visual inspection is defined as: An intensive visual examination of a specific structural area, system, installation, or assembly to detect damage, failure, or irregularity. Available lighting is normally supplemented with a direct source of good lighting at intensity deemed appropriate by the inspector. Inspection aids such as mirrors, magnifying lenses, etc., may be used. Surface cleaning and elaborate access procedures may be required.

(i) Retained Repetitive Eddy Current and/or Dye Penetrant Inspections

This paragraph restates the actions required by paragraph (b) of AD 2000-17-03, Amendment 39-11876 (65 FR 52298, August 29, 2000), with a new exception. For airplanes equipped with a Messier-Dowty NLG having P/N 201071001 or 201071002, on which a MFSA having P/N 201071200, 201071228, 201071248, or 201071249 is installed: Except as required by paragraph (g)(2) of this AD, prior to the accumulation of 7,875 total flight cycles, or within 375 flight cycles after October 3, 2000 (the effective date of AD 2000-17-03), whichever occurs later, perform an eddy current or dye penetrant inspection of the NLG main fitting subassembly to detect cracking, in accordance with Part 2 of the Accomplishment Instructions of Fokker Service Bulletin SBF100-32-118, dated October 8, 1999. Such inspection within the compliance time required by the introductory text of paragraph (g) of this AD terminates the requirements of paragraph (g) of this AD. Repeat the inspection thereafter, using an eddy current or dye penetrant technique, at intervals not to exceed 750 flight cycles, except as required by paragraph (m)(1) of this AD. Repeat the inspection until the replacement specified in paragraph (l) of this AD is done, or the installation specified in paragraph (n) of this AD is done.

(j) Retained Rework of Main Fitting

This paragraph restates the actions required by paragraph (c) of AD 2000-17-03, Amendment 39-11876 (65 FR 52298, August 29, 2000), with revised repair methods. If any cracking is detected during any inspection required by paragraph (g) or (i) of this AD: Prior to further flight, rework the main fitting of the NLG, in accordance with Part 3 of the Accomplishment Instructions of Fokker Service Bulletin SBF100-32-118, dated October 8, 1999. If, after rework, any cracking remains that exceeds the limits specified in Fokker Service Bulletin SBF100-32-118, dated October 8, 1999, prior to further flight, accomplish the actions specified by either paragraph (j)(1) or (j)(2) of this AD.

(1) Replace the NLG in accordance with the Accomplishment Instructions of Fokker Service Bulletin SBF100-32-118, dated October 8, 1999; and within 7,875 flight cycles after such replacement, perform the inspection as specified in paragraph (i) of this AD, and repeat the inspection thereafter at intervals not to exceed 750 flight cycles.

(2) Repair in accordance with a method approved by the Manager, International Branch, ANM-116, Transport Airplane Directorate, FAA; or the Rijksluchtvaartdienst (RLD) (or its delegated agent); or the European Aviation Safety Agency (EASA); or Fokker B.V. Service's EASA Design Organization Approval (DOA).

Note 1 to paragraph (j) of this AD: Fokker Service Bulletin SBF100-32-118, dated October 8, 1999, references Messier-Dowty Service Bulletin F100-32-92, Revision 1, dated October 8, 1999, as an additional source of service information for accomplishing the inspections and rework of the NLG main fitting subassembly.

(k) Retained Reporting Requirements

This paragraph restates the actions required by paragraph (d) of AD 2000-17-03, Amendment 39-11876 (65 FR 52298, August 29, 2000), with revised contact information and minor editorial changes. Submit a report of the detailed visual inspection findings (positive and negative) required by paragraph (g) of this AD, and a report of the initial eddy current or dye penetrant inspection findings (positive and negative) required by paragraph (i) of this AD, to Fokker Services B.V., P.O. Box 231, 2150 AE Nieuw-Vennep, the Netherlands; or to Fokker Services B.V., Technical Services Dept., P.O. Box 1357, 2130 EL Hoofddorp, the Netherlands; telephone +31 (0)88-6280-350; fax +31 (0)88-6280-111; email technicalservices@fokker.com; Internet http://www.myfokkerfleet.com; at the applicable time specified in paragraph (k)(1) or (k)(2) of this AD. As of the effective date of this AD, submit reports to Fokker Services B.V., Technical Services Dept., P.O. Box 1357, 2130 EL Hoofddorp, the Netherlands; telephone +31 (0)88-6280-350; fax +31 (0)88-6280-111; email technicalservices@fokker.com; Internet http://www.myfokkerfleet.com.

(1) For airplanes on which the detailed visual inspection specified by paragraph (g) of this AD, and the initial repetitive eddy current or dye penetrant inspection specified by paragraph (i) of this AD, are accomplished after October 3, 2000 (the effective date of AD 2000-17-03, Amendment 39-11876 (65 FR 52298, August 29, 2000)): Submit each report within 7 days after performing the applicable inspection.

(2) For airplanes on which the detailed visual inspection specified by paragraph (g) of this AD, and the initial repetitive eddy current or dye penetrant inspection specified in paragraph (i) of this AD, have been accomplished prior to October 3, 2000 (the effective date of AD 2000-17-03, Amendment 39-11876 (65 FR 52298, August 29, 2000)): Submit the reports within 7 days after October 3, 2000 (the effective date of AD 2000-17-03).

(l) New Requirement of This AD: Replacement

Except as provided by paragraph (m) of this AD, before the next scheduled main fitting overhaul of the NLG after the effective date of this AD, or within 36 months after the effective date of this AD, whichever occurs first: Replace all NLG units having P/N 201071001 with a new P/N 201071003 NLG unit, and replace all NLG units having P/N 201071002 with a new P/N 201071004 NLG unit, in accordance with the Accomplishment Instructions of Fokker Service Bulletin SBF100-32-119, Revision 1, dated November 15, 2011, including Fokker Manual Change Notification MCNM-F100-043, dated January 31, 2000.

(m) New Compliance Time Extension and On-Condition Actions

For airplanes on which the next scheduled main fitting overhaul of the NLG is to occur later than 36 months after the effective date of this AD: Operators may accomplish the replacement required by paragraph (l) of this AD before the next scheduled main fitting overhaul of the NLG after the effective date of this AD, or within 72 months after the effective date of this AD, whichever occurs first, provided the actions specified in paragraphs (m)(1) and (m)(2) of this AD are done.

(1) Within 36 months after the effective date of this AD, accomplish the inspection specified in paragraph (i) of this AD within 750 flight cycles since the most recent inspection, and repeat thereafter at intervals not to exceed 375 flight cycles until the replacement specified in paragraph (l) of this AD is done or the installation specified in paragraph (n) of this AD is done.

(2) In addition to the inspection specified in paragraph (m)(1) of this AD, do all other on-condition actions specified in paragraph 1.E(1)(b) of Fokker Service Bulletin SBF100-32-119, Revision 1, dated November 15, 2011, including Fokker Manual Change Notification MCNM-F100-043, dated January 31, 2000; except where Fokker Service Bulletin SBF100-32-119, Revision 1, dated November 15, 2011, including Fokker Manual Change Notification MCNM-F100-043, dated January 31, 2000, specifies to contact Fokker Services B.V., before further flight, repair using a method approved by the Manager, International Branch, ANM-116, Transport Airplane Directorate, FAA; or EASA; or Fokker Services B.V.'s EASA Design Organization Approval (DOA).

Note 2 to paragraph (m) of this AD: Fokker Service Bulletin SBF100-32-119, Revision 1, dated November 15, 2011, including Fokker Manual Change Notification MCNM-F100-043, dated January 31, 2000, references Messier-Dowty Service Bulletin F100-32-94, dated January 5, 2000, as an additional source of service information for replacing the NLG unit.

(n) New Optional Action

Installing a new P/N 201456001 or P/N 201461001 NLG unit, in accordance with Fokker Proforma Service Bulletin SBF100-32-149, Revision 1, dated October 25, 2007, including Appendix 1, dated December 12, 2006, is acceptable for compliance with the replacement required by paragraph (l) of this AD, provided the installation is accomplished within the compliance time specified in paragraph (l) of this AD; and, except for airplanes that comply with paragraph (m) of this AD, provided the installation is accomplished within the compliance time specified in paragraph (m) of this AD.

(o) New Requirement: Concurrent Modification

Prior to, or concurrently with, the installation of the NLG unit required by paragraph (l) of this AD or the optional installation specified in paragraph (n) of this AD, modify the NLG bracket, in accordance with the Accomplishment Instructions of Fokker Service Bulletin SBF100-53-074, dated November 1, 1999.

(p) New Terminating Actions

Accomplishing the replacement specified in paragraph (l) of this AD or the installation specified in paragraph (n) of this AD terminates the repetitive eddy current or dye penetrant inspections required by paragraphs (i) and (m)(1) of this AD.

(q) New Parts Installation Prohibition

(1) For airplanes equipped with a Messier-Dowty NLG having P/N) 201071001 or 201071002, on which a main fitting subassembly (MFSA) having P/N 201071200, 201071228, 201071248, or 201071249 is installed: As of October 3, 2000 (the effective date of AD 2000-17-03, Amendment 39-11876 (65 FR 52298, August 29, 2000), and until the effective date of this AD, no person may install an NLG having P/N 201071001 or 201071002 unless the installed MFSA has been inspected by means of an eddy current or dye penetrant inspection, and corrected in accordance with paragraph (i) of this AD.

(2) For all airplanes: As of the effective date of this AD, no person may install an NLG having P/N 201071001 or 201071002 on any airplane.

(r) Credit for Previous Actions

This paragraph provides credit for the replacement required by paragraph (l) of this AD, if those actions were performed before the effective date of this AD using Fokker Service Bulletin SBF 100-32-119, dated January 31, 2000, provided P/N 201071003 or 201071004 nose gear has been installed.

(s) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Fokker Services B.V.'s EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(t) Related Information

(1) Refer to Mandatory Continuing Airworthiness Information (MCAI) EASA Airworthiness Directive 2012-0002R1, dated March 30, 2012, for related information. You may examine the MCAI in the AD docket on the Internet at http://www.regulations.gov/#!documentDetail;D=FAA-2014-0062-0002.

(2) Service information identified in this AD that is not incorporated by reference is available at the addresses specified in paragraphs (u)(5) and (u)(6) of this AD.

(u) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 31, 2014.

(i) Fokker Service Bulletin SBF 100-32-119, Revision 1, dated November 15, 2011, including Fokker Manual Change Notification MCNM-F100-043, dated January 31, 2000.

(ii) Fokker Proforma Service Bulletin SBF 100-32-149, Revision 1, dated October 25, 2007, including Appendix 1, dated December 12, 2006.

(iii) Fokker Service Bulletin SBF 100-53-074, dated November 1, 1999.

(4) The following service information was approved for IBR on October 3, 2000 (65 FR 52298, August 17, 2000).

(i) Fokker Service Bulletin SBF100-32-118, dated October 8, 1999.

(ii) Reserved.

(5) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on November 5, 2014.
Jeffrey E. Duven,
Manager, Transport Airplane Directorate, Aircraft Certification Service.

[FR Doc. 2014-27361 Filed 11-25-14; 8:45 am]

BILLING CODE 4910-13-P